FEDERAL COMMUNICATIONS COMMISSION

47 CFR Part 74

[MB Docket No. 26-20; FCC 26-10; FR ID 332437]

FCC Seeks Comment on Proposed Application Limit for New NCE Reserved Band FM Translator Station Applications in Upcoming 2026 Filing Window

AGENCY: Federal Communications Commission.

ACTION: Proposed rule.

SUMMARY: In this document, the Federal Communications Commission (Commission) seeks comment on establishing eligibility restrictions and a limit on the number of applications that each applicant may file in the first-ever filing window for applications for new noncommercial educational (NCE) reserved band FM translator station construction permits. The proposed eligibility restrictions and application caps are intended to promote efficiency, curb speculative applications, and preserve spectrum for future secondary services.

DATES: Comments due on or before March 13, 2026; reply comments due on or before March 23, 2026.

ADDRESSES: Pursuant to §§ 1.415 and 1.419, interested parties may file comments and reply comments on or before the dates indicated on the first page of this document. Comments may be filed using the Commission's Electronic Comment Filing System (ECFS). You may submit comments, identified by MB Docket No. 26-20, by any of the following methods:

• Electronic Filers: Comments may be filed electronically using the internet by accessing the ECFS: https://www.fcc.gov/ecfs.

• Paper Filers: Parties who choose to file by paper must file an original and one copy of each filing.

• Filings can be sent by hand or messenger delivery, by commercial courier, or by the U.S. Postal Service. All filings must be addressed to the Secretary, Federal Communications Commission.

• Hand-delivered or messenger-delivered paper filings for the Commission's Secretary are accepted between 8 a.m. and 4 p.m. by the FCC's mailing contractor at 9050 Junction Drive, Annapolis Junction, MD 20701. All hand deliveries must be held together with rubber bands or fasteners. Any envelopes and boxes must be disposed of before entering the building.

• Commercial courier deliveries (any deliveries not by the U.S. Postal Service) must be sent to 9050 Junction Drive, Annapolis Junction, MD 20701.

• Filings sent by U.S. Postal Service First-Class Mail, Priority Mail, and Priority Mail Express must be sent to 45 L Street NE, Washington, DC 20554.

• People with Disabilities. To request materials in accessible formats for people with disabilities (braille, large print, electronic files, audio format), send an email to fcc504@fcc.gov or call the Consumer & Governmental Affairs Bureau at 202-418-0530.

FOR FURTHER INFORMATION CONTACT: James Bradshaw, James.Bradshaw@fcc.gov; Lisa Scanlan, Lisa.Scanlan@fcc.gov; or Amy Van de Kerckhove, Amy.Vandekerckhove@fcc.gov, of the Media Bureau, Audio Division, (202) 418-2700. Direct press inquiries to Nancy Murphy, Nancy.Murphy@fcc.gov, (202) 418-1043.

SUPPLEMENTARY INFORMATION: This is a summary of the Commission's Public Notice, FCC-26-10, adopted February 18, 2026 and released February 19, 2026. The full text of this document is available by downloading the text from the Commission's website at https://docs.fcc.gov/public/attachments/FCC-26-10A1.pdf or by using the search function for MB Docket No. 26-20 on the Commission's ECFS web page at https://www.fcc.gov/ecfs.

Paperwork Reduction Act. This document contains proposed information collections subject to the Paperwork Reduction Act of 1995. The Commission has OMB approval to collect these applications under OMB Control Number 3060-0405.

Providing Accountability Through Transparency Act. Consistent with the Providing Accountability Through Transparency Act, a summary of this document will be available on https://www.fcc.gov/proposed-rulemakings.

Synopsis

I. Introduction

1. In this Public Notice, we announce that we are directing the Media Bureau (Bureau) to open the first-ever filing window for applications for new noncommercial educational (NCE) reserved band FM translator station construction permits. The Bureau will issue a subsequent Public Notice to announce the specific dates of the 2026 window. By this Public Notice, we also seek comment on establishing eligibility restrictions and a limit on the number of applications that each applicant may file in the upcoming window.

II. Background

2. The Commission has employed application caps or eligibility restrictions in prior reserved band full service NCE FM windows and non-reserved band FM translator windows to promote efficiency, curb speculative applications, and expedite the processing of applications and expansion of new service while preserving spectrum and future licensing opportunities. Specifically, in the NCE context, the Commission has established by public notice a limit on the number of NCE applications filed by an applicant in a filing window. In both 2007 and 2021, before the full service NCE FM station filing windows opened, the Commission sought comment on an application cap and subsequently established a limit of ten NCE FM new station applications filed by an applicant during each filing window. In each window, this application limit helped restrict the number of mutually exclusive applications (including “daisy chains” of mutually exclusive applications), and thereby minimized the delay caused by processing complicated application chains. The ten application cap allowed the Commission to expeditiously process and grant thousands of applications to a wide range of local and diverse applicants, therefore promoting the rapid expansion of new NCE FM service throughout the country.

3. The Commission has also imposed eligibility restrictions and limits in prior FM translator filing windows to be consistent with the mandates of Section 5 of the Local Community Radio Act of 2010 (LCRA), which require the Commission to ensure that licensing opportunities are available for all secondary services and that translator licensing procedures do not foreclose or unduly limit future low power FM (LPFM) licensing. For example, in both Auction 99 and Auction 100, the only new FM translator windows since passage of the LCRA, which opened pursuant to the AM Revitalization proceeding, the Commission limited the scope of the window and designed strict eligibility requirements to ensure continuing licensing opportunities for all secondary services. The Commission concluded that “a narrowly tailored filing window for such FM translators . . . could yield significant public interest benefits with little to or no detriment either to the FM translator service or to licensing opportunities for LPFM stations, especially since the filing window proposed will follow the 2013 LPFM filing window.” Similarly, to comport with the LCRA, the Commission implemented remedial processing procedures and restrictions for the then-remaining 2003 Auction 83 FM translator applications. The restrictions and procedures adopted for these prior FM translator filing windows were designed to strike a balance between the stated goals of the specific proceeding and the overall goal of preserving spectrum for secondary services.

III. Discussion

4. Given the success of both the October 2007 and November 2021 NCE FM filing windows, as well as the Auction 99 and Auction 100 cross-service FM translator windows, we tentatively conclude that we should establish eligibility restrictions and an application limit in the upcoming NCE reserved band FM translator filing window. We believe eligibility restrictions and an application cap would deter speculative filings, permit the expeditious processing of the applications filed in the window, and provide interested applicants with a meaningful opportunity to file for and obtain new NCE reserved band FM translator station licenses while still preserving spectrum for future secondary services, consistent with the LCRA. In contrast, we tentatively conclude that the failure to establish eligibility restrictions and a limit on the number of new NCE reserved band FM translator applications that an applicant may file in the window could lead to a large number of speculative filings, create the potential for extraordinary procedural delays, and unduly deplete spectrum for future secondary services.

5. Further, in the NCE context, the Commission has stated that application limits should be considered “[i]f the number of mutually exclusive applications received under the new [point] system exceeds our expectations.” Consistent with the Commission's predictions in connection with establishing an application cap before opening the October 2007 and November 2021 NCE FM windows, we expect there will be a large volume of NCE reserved band FM translator applications filed in the forthcoming window that will require establishing an application cap before the window opens. There are several factors that could contribute to a large volume of NCE reserved band FM translator applications in the forthcoming window: (a) there is no application filing fee; (b) there are generally no ownership limits in the reserved band; (c) there has never been a filing window for new NCE reserved band FM translator applications; (d) LPFM station licensees are now permitted to own up to two FM translator stations, and this window marks the first opportunity for such applicants to file for new FM translator station licenses; and (e) the Commission simplified and clarified its rules and procedures for filing applications for new NCE applications and considering competing applications. Accordingly, we tentatively conclude that establishing an application limit before the window opens will provide certainty to potential applicants and allow for expeditious processing of applications. We seek comment on this approach.

6. Accordingly, consistent with our mandate under section 5 of the LCRA and to promote efficiency in this window, we tentatively conclude that a general ten-application cap is a reasonable limit. The Commission has successfully used an identical ten-application cap in previous full service NCE windows to ensure our licensing procedures do not foreclose or unduly limit future licensing and to prevent mass filings by speculators, while still allowing legitimate applicants a meaningful opportunity to obtain new station licenses. We believe that a ten-application limit will permit the efficient and expeditious processing of window-filed applications while at the same time supporting the goals of localism and diversity reflected in the NCE point system and our mandate under Section 5 of the LCRA. As noted above, in previous windows where we have not imposed an application cap, we have experienced extensive delays due to speculative applications. We believe the action we propose herein will avoid those problems in this window. Moreover, in order to further constrain speculative applications and to ensure this window provides additional flexibility to existing broadcasters, we tentatively conclude that imposing a requirement that each applicant be the licensee or permittee of an existing NCE FM or noncommercial AM radio broadcast station or LPFM station (primary station), which the proposed FM translator will rebroadcast, will further these goals. Finally, in accordance with the § 73.860 LPFM cross-ownership restrictions, we tentatively propose to separately impose a four-application cap for Tribal LPFM applicants and a two-application cap for all other LPFM applicants. As such, we propose the following eligibility restriction and application limits:

In the 2026 new NCE reserved band FM translator station construction permit filing window: (1) each applicant must be the licensee or permittee of an existing NCE FM or noncommercial AM radio broadcast station or LPFM station (primary station) that the proposed FM translator station will rebroadcast; (2) each applicant entity may file no more than a total of ten applications nationally, except that (i) each Tribal LPFM applicant entity that is subject to § 73.860(c) may file no more than a total of four applications nationally, and (ii) each other LPFM applicant entity that is subject to § 73.860(b) may file no more than a total of two applications nationally; and (3) a party to an application may hold attributable interests, as defined in § 73.7000, in no more than the maximum applications permitted under this rule. If it is determined that any applicant entity filed more than the maximum applications permitted under this rule, or any party to an application has an attributable interest in more than the maximum permitted, the Media Bureau will retain the applications that were filed first—based on application receipt data—and dismiss all other applications that exceed the limit.

7. We seek comment on this proposed eligibility restriction and application cap. We specifically seek comment on whether the proposed general ten application cap and primary station eligibility restriction are appropriate limits to enable the efficient processing of applications and initiation of new NCE reserved band FM translator service, while still preserving secondary service spectrum, whether different eligibility restrictions or application caps would be more appropriate, or whether we should establish no limit or restrictions at all. In particular, we note that our goal is to give interested parties the opportunity to apply for NCE reserved band FM translator outlets, subject to the apparent need for eligibility restrictions and an application cap for the reasons described above.

IV. Initial Regulatory Flexibility Analysis

8. As required by the Regulatory Flexibility Act of 1980, as amended (RFA), the Commission has prepared this IRFA of the policies and rules proposed in the Public Notice assessing the possible significant economic impact on a substantial number of small entities. The Commission requests written public comments on this IRFA. Comments must be identified as responses to the IRFA and must be filed by the deadlines for comments specified on the first page of the Public Notice. The Commission will send a copy of the Public Notice, including this IRFA, to the Chief Counsel for the SBA Office of Advocacy. In addition, the Public Notice and IRFA (or summaries thereof) will be published in the Federal Register.

A. Need for, and Objectives of, the Proposed Rules

9. The Commission has determined that, absent eligibility restrictions and a limit on the number of applications that an entity may file in the filing window described in the Public Notice, some applicants may file a large number of speculative applications, including applications that are mutually exclusive with each other. Accordingly, the Commission has tentatively determined that a general limit of ten applications for new NCE reserved band FM translator station construction permits in the filing window, as well as imposing a requirement that each applicant be the licensee or permittee of an existing NCE FM or noncommercial AM radio broadcast station or LPFM station (primary station) that the proposed FM translator will rebroadcast, are appropriate procedural safeguards. We also tentatively propose to separately impose a four-application cap for Tribal LPFM applicants and a two-application cap for all other LPFM applicants. The Commission tentatively concludes that an application limit and eligibility restrictions will deter speculation, permit the expeditious processing of the NCE reserved band FM translator applications filed in the window, and provide interested applicants with a meaningful opportunity to file for and obtain new NCE reserved band FM translator station licenses while still preserving spectrum for future secondary services. The Commission believes that the proposed eligibility restriction and application limit will benefit small entities, as defined below.

B. Legal Basis

10. The proposed action is authorized pursuant to authority set forth in 47 U.S.C. 151, 152(a), 154(i) and (j), 301, 303(g) and (r), 308(b), and 309(j) of the Communications Act of 1934, as amended.

C. Description and Estimate of the Number of Small Entities to Which the Proposed Rules Will Apply

11. The RFA directs agencies to provide a description of and, where feasible, an estimate of the number of small entities that may be affected by the proposed rules, if adopted. The RFA generally defines the term “small entity” as having the same meaning as the terms “small business,” “small organization,” and “small governmental jurisdiction.” In addition, the term “small business” has the same meaning as the term “small business concern” under the Small Business Act. A “small business concern” is one which: (1) is independently owned and operated; (2) is not dominant in its field of operation; and (3) satisfies any additional criteria established by the SBA. The SBA establishes small business size standards that agencies are required to use when promulgating regulations relating to small businesses; agencies may establish alternative size standards for use in such programs, but must consult and obtain approval from SBA before doing so.

12. Our actions, over time, may affect small entities that are not easily categorized at present. We therefore describe three broad groups of small entities that could be directly affected by our actions. In general, a small business is an independent business having fewer than 500 employees. These types of small businesses represent 99.9% of all businesses in the United States, which translates to 34.75 million businesses. Next, “small organizations” are not-for-profit enterprises that are independently owned and operated and not dominant their field. While we do not have data regarding the number of non-profits that meet that criteria, over 99 percent of nonprofits have fewer than 500 employees. Finally, “small governmental jurisdictions” are defined as cities, counties, towns, townships, villages, school districts, or special districts with populations of less than fifty thousand. Based on the 2022 U.S. Census of Governments data, we estimate that at least 48,724 out of 90,835 local government jurisdictions have a population of less than 50,000.

13. The rules proposed in the Public Notice will apply to small entities in the industries identified in the chart below by their six-digit North American Industry Classification System (NAICS) codes and corresponding SBA size standard. Based on currently available U.S. Census data regarding the estimated number of small firms in each identified industry, we conclude that the proposed rules will impact a substantial number of small entities. Where available, we also provide additional information regarding the number of potentially affected entities in the industries identified below.

Table 1—2022 U.S. Census Bureau Data by NAICS Code
Regulated industry (footnotes specify potentially affected entities within a regulated industry where applicable) | NAICS code | SBA size standard ($million) | Total firms | Total small firms | % Small firms
Radio Broadcasting Stations | 516110 | 47 | 2,616 | 2,136 | 81.65

Table 2—Broadcast Entity Data
Broadcast station owners (as of August 8, 2025): Affected entity | SBA size standard ($47 million): # Commercial licensed | SBA size standard ($47 million): Small firms | SBA size standard ($47 million): % Small entities
Radio Stations (AM & FM) Groups | 2,881 | 2,863 | 99.38

D. Description of Economic Impact and Projected Reporting, Recordkeeping, and Other Compliance Requirements for Small Entities

14. The RFA directs agencies to describe the economic impact of proposed rules on small entities, as well as projected reporting, recordkeeping and other compliance requirements, including an estimate of the classes of small entities which will be subject to the requirements and the type of professional skills necessary for preparation of the report or record.

15. The Public Notice seeks comment on establishing eligibility restrictions and a limit on the number of applications that each applicant may file in the upcoming window. We anticipate that none of the changes adopted as a result of the Public Notice would result in an increase to the reporting and recordkeeping requirements of broadcast stations or applicants for NCE reserved band FM translator authorizations. Small entity applicants would be required to comply with application requirements, including submitting no more than a total of ten applications nationally. Small Tribal LPFM applicants may file no more than four applications nationally, and other LPFM applicants subject to § 73.860(b) of the Commission's rules may file no more than a total of two applications nationally. Applicants may hold attributable interests in no more than the maximum applications permitted as defined in § 73.7000 of the Commission's rules. As noted above, we invite small business entities to comment in response to the Public Notice, and provide specific information pertaining to the costs, benefits, and impacts of any potential reporting, recordkeeping, or compliance requirements we discuss.

E. Steps Taken To Minimize the Significant Economic Impact on Small Entities and Significant Alternatives Considered

16. The RFA directs agencies to provide a description of any significant alternatives to the proposed rules that would accomplish the stated objectives of applicable statutes, and minimize any significant economic impact on small entities. The discussion is required to include alternatives such as: “(1) the establishment of differing compliance or reporting requirements or timetables that take into account the resources available to small entities; (2) the clarification, consolidation, or simplification of compliance and reporting requirements under the rule for such small entities; (3) the use of performance rather than design standards; and (4) an exemption from coverage of the rule, or any part thereof, for such small entities.”

17. We are directed under law to describe any alternatives we consider, including alternatives not explicitly listed above. The Public Notice describes and seeks comment on (1) a proposed limit on the number of new NCE reserved band FM translator applications that may be filed during the filing window described in the Public Notice, and (2) a proposed requirement that each applicant be the licensee or permittee of an existing NCE FM or noncommercial AM radio broadcast station or LPFM station (primary station) that the proposed FM translator will rebroadcast. The proposed limit and eligibility restrictions are intended to benefit all small NCE entities seeking to establish a new NCE reserved band FM translator service by preventing mass filings of speculative applications and preserving spectrum for future secondary services. The proposed limit and eligibility restrictions should benefit applicants by expediting the review and processing of applications filed during the window. The proposed limit does not impose any significant compliance or reporting requirements because it would merely set a limit on the number of applications for new NCE reserved band FM translator authorizations a party could file during the window. Similarly, the proposed requirement that each applicant be the licensee or permittee of an existing NCE FM or noncommercial AM radio broadcast station or LPFM station (primary station) that the proposed FM translator will rebroadcast does not impose any significant compliance or reporting requirements. Accordingly, we are not aware of any alternatives that would benefit small entities. We encourage small entities to comment on the proposed limit described in the Public Notice.

F. Federal Rules that May Duplicate, Overlap, or Conflict With the Proposed Rules

18. None.

List of Subjects in 47 CFR Part 74

Radio, Reporting and recordkeeping requirements.

Federal Communications Commission.
Marlene Dortch,
Secretary.

Proposed Rule

For the reasons discussed in the preamble, the Federal Communications Commission proposes to amend 47 CFR part 74 as follows:

PART 74—EXPERIMENTAL RADIO, AUXILIARY, SPECIAL BROADCAST AND OTHER PROGRAM DISTRIBUTIONAL SERVICES

1. The authority citation for part 74 continues to read as follows:

Authority: 47 U.S.C. 154, 302a, 303, 307, 309, 310, 325, 336 and 554.

2. Amend § 74.1233 by adding paragraph (b)(5) to read as follows:

§ 74.1233 Processing FM translator and booster station applications.

* * * * *

(b)(5) Eligibility and Application Limits. In the 2026 new NCE reserved band FM translator station construction permit filing window (1) each applicant must be the licensee or permittee of an existing NCE FM or noncommercial AM radio broadcast station or LPFM station (primary station) that the proposed FM translator station will rebroadcast; (2) each applicant entity may file no more than a total of ten applications nationally, except that (i) each Tribal LPFM applicant entity that is subject to § 73.860(c) may file no more than a total of four applications nationally, and (ii) each other LPFM applicant entity that is subject to § 73.860(b) may file no more than a total of two applications nationally; and (3) a party to an application may hold attributable interests, as defined in § 73.7000, in no more than the maximum applications permitted under this rule. If it is determined that any applicant entity filed more than the maximum applications permitted under this rule, or any party to an application has an attributable interest in more than the maximum permitted, the Media Bureau will retain the applications that were filed first—based on application receipt data—and dismiss all other applications that exceed the limit.

[FR Doc. 2026-03889 Filed 2-25-26; 8:45 am]

BILLING CODE 6712-01-P